DEPARTMENT OF JUSTICE

Community Oriented Policing Services Public Meetings With Members of the Research Community, Subject-Matter Experts and the Public To Discuss Topics Relating to Policing; Correction

AGENCY: Community Oriented Policing Services, Justice.

ACTION: Notice; correction.

SUMMARY: The U.S. Department of Justice published a document in the Federal Register of February 6, 2015, concerning a public teleconference notice to discuss topics relating to policing. This document contains an updated agenda for the day, which includes additional witness testimony on The Future of Community Policing. The notice for this revision is given less than 15 calendar days prior to the additional listening session because the Task Force has deemed it necessary to add this topic to fully inform its deliberations prior to the March 2 deadline for submitting its report.

FOR FURTHER INFORMATION CONTACT: Ronald L. Davis, 202-514-4229 or PolicingTaskForce@usdoj.gov.

Correction

In the Federal Register of February 6, 2015, in FR Doc. 2015-02463, on page 6767, in the first and second column, correct the SUMMARY, DATES, ADDRESSES, and SUPPLEMENTARY INFORMATION captions to read:

SUMMARY: On December 18, 2014, President Barack Obama signed an Executive Order titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. The Task Force will be holding a public meeting to address the topic of The Future of Community Policing and a public teleconference to discuss best practices and recommendations.

The agenda is as follows:

8:30 a.m.—Call to order of the public meeting;

8:35 a.m.—Invited witness testimony on The Future of Community Policing;

10:00 a.m.—Conclusion of the public meeting;

1:00 p.m.—Call to order of the public teleconference;

Discussion of best practices and recommendations;

7:00 p.m.—Conclusion of the public teleconference.

DATES: The public meeting will be held Tuesday, February 24, 2015 from 8:30 a.m. to 10:00 a.m. Eastern Standard Time. The public teleconference will be held Tuesday, February 24, 2015 from 1:00 p.m. to 7:00 p.m. Eastern Standard Time.

For disability access please call 1-800-888-8888 (TTY users call via Relay).

ADDRESSES: The public meeting location is the Ronald Reagan Building, 1300 Pennsylvania Avenue NW., Horizon Ballrooms A & B. The public teleconference will only be available via phone. To access the conference line, please call 1-866-906-7447 and, when prompted, enter access code 8072024#.

SUPPLEMENTARY INFORMATION:

The meeting is open to the public with limited seating.

Accommodations requests: To request accommodation of a disability, please contact Jessica Drake at 202-457-7771 prior to the meeting to give the Department of Justice as much time as possible to process your request.

Electronic Access and Filing Addresses

The Task Force is interested in receiving written comments including proposed recommendations from individuals, groups, advocacy organizations, and professional communities. Additional information on how to provide your comments will be posted to www.cops.usdoj.gov/PolicingTaskForce. Comments must be received by 10:00 a.m. on February 24, 2015.

Availability of Meeting Materials: The agenda and other materials in support of the meeting and the teleconference will be available on the Task Force Web site at www.cops.usdoj.gov/PolicingTaskForce in advance of the meeting and the teleconference.

Dated: February 11, 2015.
Deborah Spence,
Alternate Designated Federal Official.

[FR Doc. 2015-03386 Filed 2-17-15; 8:45 am]

BILLING CODE 4410-AT-P